DEPARTMENT OF AGRICULTURE

Forest Service

Off-Highway Vehicle (OHV) Study, Mark Twain National Forest, Madison, WA, and Wayne Counties, MO

AGENCY: Forest Service, USDA.

ACTION: Revised notice: intent to prepare an environmental impact statement

SUMMARY: The Forest Service will prepare an environmental impact statement (EIS) to analyze and disclose the environmental effects of proposed activities within the three OHV Study project areas. The three OHV Study project areas are located on National Forest System lands administered by the Potosi/Fredericktown and Poplar Bluff Ranger Districts is southeast Missouri. The legal descriptions of the three study areas are as follows:

Palmer Study Area—This study area would be located on the Potosi Unit of the Potosi/Fredericktown Ranger District in Washington County, approximately 12 miles southwest of Potosi, Missouri. This trail system would be managed for a variety of motorized vehicles, including jeeps and dune buggies. Trailheads and parking areas would also be constructed at some locations.

Cherokee Pass Study Area—This study area would be located on the Fredericktown Unit of the Potosi/Fredericktown Ranger District in Madison County, approximately seven miles south of Fredericktown, Missouri. This trail system would be managed for ATV and equestrian use. Other motorized vehicles such as motorcycles, jeeps, and dune buggies, would not be allowed. Trailheads and parking areas would also be constructed at some locations.

Blackwell Ridge Study Area—This study area would be located on the Poplar Bluff Ranger District in Wayne County, approximately 1½ mile north of Williamsville, Missouri. This trail system would be managed for ATV and motorcycles. Other motorized four-wheel drive vehicles, jeeps, and dune buggies, would not be allowed. Trailheads and parking areas would also be constructed at some locations.

The primary purpose of this project is to study OHV use and users to guide future management options on OHV trail opportunities and use. This study will also evaluate equipment impacts to natural resources. Social impacts, such as customer satisfaction, demographics of trail users, and compatibility between trail users, would also be studied.

The Mark Twain National Forest needs to determine if designating more motorized trails can be done in a manner that not only provides for this recreational use, but also addresses environmental concerns. It is hoped that by providing additional designated OHV trails, OHV users would avoid undesignated roads and trails and, thereby, the overall environmental damage from unauthorized use can be reduced. Observations by OHV managers locally and from other states indicate that when OHV riders have designated areas to ride, they are more likely to stay on designated routes.

Therefore, the OHV customer, the resource manager, and the environment should all benefit from this study. Resource managers would be able to direct OHV customers to a designated trail system where impacts are confined, minimized, evaluated, monitored, and mitigated. With this study, OHV customers would know they are in an area where they can legally ride in a setting they enjoy. The Forest Service can promote responsible OHV use, better communicate with this forest user group, promote local partnerships for conservation education and OHV trail maintenance, and evaluate resource and social impacts.

The focus of this study is to evaluate OHV use in three separate study locations and publish an evaluation of what is learned. The results of this study would be used to guide future management decisions on OHV trail management here and elsewhere in the National Forest System. At the end of the study period, unless the study is modified or terminated early, a separate decision, following the National Environmental Policy Act process, would be made as to whether or not to designate all, part, or none of the three areas as permanent OHV trails. The data collected from this study and other ongoing national studies would be used to corroborate and assist in making that decision.

DATES: An original Notice of Intent was published in the Federal Register on May 6, 2004. Comments concerning the proposal should have been received during the original comment period. The Forest Service expects to file a Draft EIS with the Environmental Protection Agency and make it available for public comment by December 2005.

ADDRESSES: Comments concerning this revision should be received in writing within 30 days of this Notice's publication. Send comments to: Potosi/Fredericktown Ranger District, P.O. Box 188, Potosi, MO 63664. Electronic comments must be sent via the Internet to: comments-eastern-mark-twain-potosi@fs.fed.us.

FOR FURTHER INFORMATION CONTACT: Tom McGuire, Project Leader/Integrated Resource Analyst, Potosi/Fredericktown Ranger District, P.O. Box 188, Potosi Missouri 63664, phone (573) 438-5427.

SUPPLEMENTARY INFORMATION: Further information about the proposal can be found in the original notice of intent originally published in the Federal Register, Vol. 69, No. 88, pp.25365-25367, on May 6, 2004. The scope of the project has not changed; therefore, this revised notice of intent does not initiate a new scoping period for this proposal. The notice of intent is being revised because the publication of the Draft EIS has been delayed for more than six months. The original release date was expected to be September 2004; the new expected release date is December 2005, and the Final EIS is expected to be released in March 2006.

Estimated Dates for Filing

The draft EIS is expected to be filed with the Environmental Protection Agency and available for public review in December 2005. A 45-day comment period will follow publication of a Notice of Availability of the draft EIS in the Federal Register. Comments received on the draft EIS will be analyzed and considered in preparation of a final EIS, expected in March 2006. A Record of Decision (ROD) will also be issued at that time along with the publication of a Notice of Availability of the final EIS and ROD in the Federal Register.

Reviewers Obligation To Comment

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Responsible Official

The responsible official for this environmental impact statement is Ronnie Raum, Forest Supervisor, Mark Twain National Forest, 401 Fairgrounds Rd, Rolla, MO 65401 (573) 364-4621.

Dated: April 19, 2005.
Michael J. Weber,
District Ranger, Potosi/Fredericktown Ranger District, P.O. Box 188, Potosi, Missouri 63664.

[FR Doc. 05-8482 Filed 4-27-05; 8:45 am]

BILLING CODE 3410-11-P